LIBRARY OF CONGRESS

Copyright Royalty Board

[Docket No. 14-CRB-0011-SD (2013)]

Distribution of 2013 Satellite Royalty Funds

AGENCY: Copyright Royalty Board, Library of Congress.

ACTION: Notice requesting comments.

SUMMARY: The Copyright Royalty Judges solicit comments on a motion of Phase I claimants for partial distribution of 2013 satellite royalty funds.

DATES: Comments are due on or before March 13, 2015.

ADDRESSES: Interested parties may submit comments electronically to crb@loc.gov. In the alternative, interested parties may send an original, five copies, and an electronic copy on a CD either by mail or hand delivery. Commenters shall not use multiple means of transmission. Interested parties may not deliver comments by an overnight delivery service other than the U.S. Postal Service Express Mail. If commenters use U.S. mail (including overnight delivery), the appropriate address is: Copyright Royalty Board, P.O. Box 70977, Washington, DC 20024-0977. If a private party delivers comments by hand, they must be brought to the Library of Congress, James Madison Memorial Building, LM-401, 101 Independence Avenue SE., Washington, DC 20559-6000. If a party delivers comments by a commercial courier, the comments must go to the Congressional Courier Acceptance Site located at 2nd and D Street NE., Washington, DC, in an envelope addressed to: Copyright Royalty Board, Library of Congress, James Madison Memorial Building, LM-403, 101 Independence Avenue SE., Washington, DC 20559-6000.

FOR FURTHER INFORMATION CONTACT: Lakeshia Keys, Program Specialist, by telephone at (202) 707-7658 or email at crb@loc.gov.

SUPPLEMENTARY INFORMATION: Each year satellite systems must submit royalty payments to the Register of Copyrights as required by the statutory license set forth in section 119 of the Copyright Act for the retransmission to satellite subscribers of over-the-air television broadcast signals. See 17 U.S.C. 119(b). The Copyright Royalty Judges (Judges) oversee distribution of royalties to copyright owners whose works were included in a qualifying transmission and who timely filed a claim for royalties. Allocation of the royalties collected occurs in one of two ways. In the first instance, the Judges may authorize distribution in accordance with a negotiated settlement among all claiming parties. 17 U.S.C. 119(b)(5)(A), 801(b)(3)(A). If all claimants do not reach an agreement with respect to the royalties, the Judges must conduct a proceeding to determine the distribution of any royalties that remain in controversy. 17 U.S.C. 119(b)(5)(B), 801(b)(3)(B). Alternatively, the Judges may, on motion of claimants and on notice to all interested parties, authorize a partial distribution of royalties, reserving on deposit sufficient funds to resolve identified disputes. 17 U.S.C. 119(b)(5)(C), 801(b)(3)(C).

On January 21, 2015, representatives of the Phase I claimant categories (the “Phase I Claimants”) ¹ filed with the Judges a motion requesting a partial distribution amounting to 60% of the 2013 satellite royalty funds pursuant to section 801(b)(3)(C) of the Copyright Act. 17 U.S.C. 801(b)(3)(C). That section requires that, before ruling on the motion, the Judges publish a notice in the Federal Register seeking responses to the motion for partial distribution to ascertain whether any claimant entitled to receive the subject royalties has a reasonable objection to the requested distribution. Accordingly, this Notice seeks comments from interested claimants on whether any reasonable objection exists that would preclude the distribution of 60% of the 2013 satellite royalty funds to the Phase I Claimants. Parties making objection to the partial distribution must advise the Judges of the existence and extent of all their objections by the end of the comment period. The Judges will not consider any objections with respect to the partial distribution motion that come to their attention after the close of the comment period.

¹ The “Phase I Claimants” are Program Suppliers, Joint Sports Claimants, Broadcaster Claimants Group, Music Claimants (represented by American Society of Composers, Authors and Publishers, Broadcast Music, Inc., and SESAC, Inc.), and Devotional Claimants. In what has become known as “Phase I” of a satellite royalty distribution proceeding, the Judges allocate royalties among certain categories of broadcast programming that have been retransmitted by satellite systems. Traditionally, the categories seeking satellite royalties have been movies and syndicated television series, sports programming, commercial broadcaster-owned programming, religious programming, and music. In Phase II of a satellite royalty distribution proceeding, the Judges determine how the allocated royalties are to be distributed among claimants within each of the Phase I categories.

The Judges have caused the Motion of the Phase I Claimants for Partial Distribution to be posted on the Copyright Royalty Board Web site at http://www.loc.gov/crb.

Dated: February 5, 2015.
Suzanne M. Barnett,
Chief U.S. Copyright Royalty Judge.

[FR Doc. 2015-02777 Filed 2-10-15; 8:45 am]

BILLING CODE 1410-72-P